DEPARTMENT OF COMMERCE

U.S. Census Bureau

Agency Information Collection Activities; Submission to the Office of Management and Budget (OMB) for Review and Approval; Comment Request; Voting and Registration Supplement

The Department of Commerce will submit to the Office of Management and Budget (OMB) for clearance the following proposal for collection of information under the provisions of the Paperwork Reduction Act: The Voting and Registration Supplement. This survey, conducted in conjunction with the Current Population Survey, is collected biennially from a sample of housing units identified in the monthly CPS sample.

Agency: U.S. Census Bureau.

Title: Voting and Registration Supplement.

OMB Control Number: 0607-0466.

Form Number(s): There are no forms. We conduct all interviews on computers.

Type of Request: Regular submission.

Number of Respondents: 52,000.

Average Hours per Response: Approximately one and one-half minutes per response.

Burden Hours: 1,300.

Needs and Uses: This survey has provided statistical information for tracking historical trends of voter and nonvoter characteristics in each Presidential or Congressional election since 1964. The data collected from the November supplement relates demographic characteristics (age, sex, race, education, occupation, and income) to voting and nonvoting behavior. The November CPS supplement is the only source of data that provides a comprehensive set of voter and nonvoter characteristics distinct from independent surveys, media polls, or other outside agencies. Federal, state, and local election officials use these data to formulate policies relating to the voting and registration process. College institutions, political party committees, research groups, and other private organizations also use the voting and registration data.

Affected Public: Individuals or households.

Frequency: Biennial.

Respondent's Obligation: Voluntary.

Legal Authority: Title 13, United States Code, Section 182; and Title 29, United States Code, Section 1 authorize the Census Bureau to collect this information.

This information collection request may be viewed at www.reginfo.gov. Follow the instructions to view Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0466.

Sheleen Dumas,
Department PRA Clearance Officer, Office of the Chief Information Officer, Commerce Department.

[FR Doc. 2020-11954 Filed 6-2-20; 8:45 am]

BILLING CODE 3510-07-P